FEDERAL COMMUNICATIONS COMMISSION

47 CFR Part 73

[DA 01-1200; MM Docket No. 98-159, RM-9290]

FM Broadcasting Services; Wallace, ID and Bigfork, MT

AGENCY: Federal Communications Commission

ACTION: Final rule.

SUMMARY: The Commission, at the request of Alpine Broadcasting Limited Partnership, substitutes Channel 264C (100.7 MHz) for Channel 264C2 at Wallace, Idaho, reallots Channel 264C from Wallace to Bigfork, Montana, and modifies Station KSIL(FM)'s license to specify Bigfork as the new community of license. See Notice of Proposed Rulemaking, 63 FR 49,323, published September 15, 1998. Channel 264C can be reallotted to Bigfork in compliance with the Commission's minimum distance separation requirements at a site located at North Latitude 48°02′45″ and West Longitude 114°22′00″ and restricted to 26.8 kilometers (16.7 miles) east of Bigfork.

DATES: Effective June 25, 2001.

FOR FURTHER INFORMATION CONTACT: J. Bertron Withers, Jr., Mass Media Bureau, (202) 418-2180.

SUPPLEMENTARY INFORMATION: This is a synopsis of the Commission's Report and Order, MM Docket 98-159, adopted May 2, 2001, and released May 11, 2001. The full text of this Commission decision is available for inspection and copying during normal business hours in the Commission's Reference Center (Room CY-A257), 445 12th Street, S.W., Washington, DC 20554. The complete text of this decision also may be purchased from the Commission's copy contractor, International Transcription Service, (202) 857-3800, 1231 20th Street, N.W., Washington, DC 20036,

List of Subjects in 47 CFR Part 73

Radio broadcasting.

PART 73—RADIO BROADCAST SERVICES

1. The authority citation for part 73 reads continues to read as follows:

Authority: Sections 47 U.S.C. 154, 303, 334, and 336.

§ 73.202 [Amended]

2. Section 73.202(b), the Table of FM Allotments, under Montana, is amended by adding Bigfork, Channel 264C.

3. Section 73.202(b), the Table of FM Allotments, under Idaho, is amended by removing Channel 264C at Wallace.

Federal Communications Commission.
John A. Karousos,
Chief, Allocations Branch, Policy and Rules Division, Mass Media Bureau.

[FR Doc. 01-13714 Filed 5-31-01; 8:45 am]

BILLING CODE 6712-01-P